DEPARTMENT OF HOUSING AND URBAN DEVELOPMENT

[Docket No. FR-7041-N-01; OMB Control No. 2528-0259]

60-Day Notice of Proposed Information Collection: Family Options Study: Long-Term Followup

AGENCY: Office of the Assistant Secretary for Policy Development and Research, HUD.

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: March 12, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Family Options Study: Long-Term Followup.

OMB Approval Number: 2528-0259.

Type of Request: Reinstatement without change of a previously approved collection.

Form Number: NA.

Description of the need for the information and proposed use: The purpose of this proposed information collection is to locate the families that enrolled in the U.S. Department of Housing and Urban Development's (HUD) Family Options Study between September 2010 and January 2012 and to update their current contact information.

The Family Options Study is a multi-site experiment designed to test the impacts of different housing and service interventions on homeless families in five key domains: Housing stability, family preservation, adult well-being, child well-being, and self-sufficiency. Both the design and the scale of the study provides a strong basis for conclusions about the relative impacts of the interventions over time, and data collected at two previous points in time, twenty (20) months after random assignment and thirty-seven (37) months after random assignment, yielded powerful evidence regarding the positive impact of providing a non-time-limited housing subsidy to a family experiencing homelessness. It is possible, though, that some effects of the various interventions might change over time or take longer to emerge, particularly for child well-being. Therefore, HUD plans to conduct a followup survey of study families roughly eleven years after enrollment into the study. Locating, reengaging, and updating the contact information for study families will be critical to supporting a healthy response rate for the planned 11-year followup survey.

This Federal Register Notice provides an opportunity to comment on the Participant Update Contact Form that will be used to reengage with study families and gather updated contact information.

Respondents: Families enrolled in the Family Options Study.

Estimated Number of Respondents: This information collection will affect 2,241 individuals.

Estimated Time per Response: Completion of the Participant Update Contact Form is expected to take, on average, five minutes, or 0.08 hours.

Frequency of Response: The Participant Update Contact Form will be completed be each family a single time.

Estimated Total Annual Burden Hours: The estimated total annual burden of this information collection is 179 hours.

Estimated Total Annual Cost: The estimated total annual cost for this information collection is $1,817. The estimated total annual cost is calculated by multiplying the total number of respondent hours (179) by $10.15. The amount of $10.15 was calculated using the minimum hourly wage ($7.25) plus an assumed 40 percent for fringe benefits.

Respondent's Obligation: Voluntary.

Legal Authority: The survey is conducted under Title 12, United States Code, Section 1701z and Section 3507 of the Paperwork Reduction Act of 1995, 44, U.S.C., 35, as amended.

Annualized Burden Table
Information collection | Number of respondents | Frequency of response | Responses per annum | Burden hour per response | Annual burden hours | Hourly cost per response | Cost
Participant Update Contact Form | 2,241 | 1 | 1 | .08 | 179 | $10.15 | $1,816.85
Total | 2,241 |  |  |  | 179 |  | 1,816.85

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority

Section 3507 of the Paperwork Reduction Act of 1995, 44 U.S.C. Chapter 35.

The Principal Deputy Assistant Secretary for Policy Development and Research, Michael J. Marshall, having reviewed and approved this document, is delegating the authority to electronically sign this document to submitter, Nacheshia Foxx, who is the Federal Register Liaison for HUD, for purposes of publication in the Federal Register.

Nacheshia Foxx,
Federal Register Liaison for the Department of Housing and Urban Development.

[FR Doc. 2021-00251 Filed 1-8-21; 8:45 am]

BILLING CODE 4210-67-P